DEPARTMENT OF ENERGY

Federal Energy Regulatory Commission

Combined Notice of Filings #1

Take notice that the Commission received the following electric rate filings:

Docket Numbers: ER14-2548-002.

Applicants: Ocean State Power.

Description: Tariff Amendment per 35.17(b): Second Amendment—Ocean State Power Notice of Succession to be effective 10/7/2014.

Filed Date: 10/6/14.

Accession Number: 20141006-5057.

Comments Due: 5 p.m. ET 10/27/14.

Docket Numbers: ER14-2556-001.

Applicants: South Carolina Electric & Gas Company.

Description: Compliance filing per 35: Order 792 Errata Notice Filing to be effective 7/31/2014.

Filed Date: 10/6/14.

Accession Number: 20141006-5055.

Comments Due: 5 p.m. ET 10/27/14.

Docket Numbers: ER14-2750-002.

Applicants: New York State Electric & Gas Corporation.

Description: Tariff Amendment per 35.17(b): Amendment to Facilities Agreement to be effective 9/1/2014.

Filed Date: 10/3/14.

Accession Number: 20141003-5183.

Comments Due: 5 p.m. ET 10/24/14.

Docket Numbers: ER14-2967-001.

Applicants: TransCanada Maine Wind Development Inc.

Description: Tariff Amendment per 35.17(b): Amendment to TransCanada Maine Wind Development 9/30/14 revised tariff to be effective 10/7/2014.

Filed Date: 10/6/14.

Accession Number: 20141006-5048.

Comments Due: 5 p.m. ET 10/27/14.

Docket Numbers: ER14-2967-002.

Applicants: TransCanada Maine Wind Development Inc.

Description: Tariff Amendment per 35.17(b): Second Amendment—TransCanada Maine Development Inc. to be effective 10/7/2014.

Filed Date: 10/6/14.

Accession Number: 20141006-5081.

Comments Due: 5 p.m. ET 10/27/14.

Docket Numbers: ER15-1-001.

Applicants: TransCanada Energy Sales Ltd.

Description: Tariff Amendment per 35.17(b): Second Amendment—TransCanada Energy Sales to be effective 10/7/2014.

Filed Date: 10/6/14.

Accession Number: 20141006-5087.

Comments Due: 5 p.m. ET 10/27/14.

Docket Numbers: ER15-32-000.

Applicants: Duke Energy Progress, Inc.

Description: § 205(d) rate filing per 35.13(a)(2)(iii): DEP-PJM Amended and Restated JOA Concurrence to be effective 12/1/2014.

Filed Date: 10/3/14.

Accession Number: 20141003-5184.

Comments Due: 5 p.m. ET 10/24/14.

Docket Numbers: ER15-33-000.

Applicants: The Dayton Power and Light Company.

Description: § 205(d) rate filing per 35.13(a)(2)(iii): FERC Rate Schedule No. 303, Village of Lakeview to be effective 1/1/2015.

Filed Date: 10/3/14.

Accession Number: 20141003-5185.

Comments Due: 5 p.m. ET 10/24/14.

Docket Numbers: ER15-34-000.

Applicants: Pacific Gas and Electric Company.

Description: § 205(d) rate filing per 35.13(a)(2)(iii): Balancing Account Update 2015 (TRBAA, RSBA, ECRBAA) to be effective 1/1/2015.

Filed Date: 10/3/14.

Accession Number: 20141003-5186.

Comments Due: 5 p.m. ET 10/24/14.

Docket Numbers: ER15-35-000.

Applicants: Midcontinent Independent System Operator, Inc.

Description: § 205(d) rate filing per 35.13(a)(2)(iii): 2014-10-03 External Resources Filing to be effective 12/2/2014.

Filed Date: 10/3/14.

Accession Number: 20141003-5191.

Comments Due: 5 p.m. ET 10/24/14.

Docket Numbers: ER15-36-000.

Applicants: The Dayton Power and Light Company.

Description: § 205(d) rate filing per 35.13(a)(2)(iii): FERC Rate Schedule No. 304, Village of Mendon to be effective 1/1/2015.

Filed Date: 10/3/14.

Accession Number: 20141003-5226.

Comments Due: 5 p.m. ET 10/24/14.

Docket Numbers: ER15-37-000.

Applicants: The Dayton Power and Light Company.

Description: § 205(d) rate filing per 35.13(a)(2)(iii): FERC Rate Schedule No. 305, Village of Waynesfield to be effective 1/1/2015.

Filed Date: 10/3/14.

Accession Number: 20141003-5236.

Comments Due: 5 p.m. ET 10/24/14.

Docket Numbers: ER15-38-000.

Applicants: The Dayton Power and Light Company.

Description: § 205(d) rate filing per 35.13(a)(2)(iii): FERC Rate Schedule No. 306, Village of Yellow Springs to be effective 1/1/2015.

Filed Date: 10/3/14.

Accession Number: 20141003-5237.

Comments Due: 5 p.m. ET 10/24/14.

Docket Numbers: ER15-39-000.

Applicants: The Dayton Power and Light Company.

Description: Tariff Withdrawal per 35.15: FERC Rate Schedule No. 301, Village of Arcanum to be effective 1/1/2015.

Filed Date: 10/6/14.

Accession Number: 20141006-5001.

Comments Due: 5 p.m. ET 10/27/14.

Docket Numbers: ER15-40-000.

Applicants: The Dayton Power and Light Company.

Description: § 205(d) rate filing per 35.13(a)(2)(iii): FERC Rate Schedule No. 301, Village of Arcanum to be effective 1/1/2015.

Filed Date: 10/6/14.

Accession Number: 20141006-5002.

Comments Due: 5 p.m. ET 10/27/14.

Docket Numbers: ER15-41-000.

Applicants: The Dayton Power and Light Company.

Description: § 205(d) rate filing per 35.13(a)(2)(iii): FERC Rate Schedule No. 302, Village of Eldorado to be effective 1/1/2015.

Filed Date: 10/6/14.

Accession Number: 20141006-5003.

Comments Due: 5 p.m. ET 10/27/14.

Docket Numbers: ER15-42-000.

Applicants: Southwest Power Pool, Inc.

Description: Southwest Power Pool, Inc.'s Informational Filing to Notify the Commission of Implementation of Year-Three Reallocation of Revenue Requirements Pursuant to Attachments J and O for the Balanced Portfolio.

Filed Date: 10/3/14.

Accession Number: 20141003-5243.

Comments Due: 5 p.m. ET 10/24/14.

Docket Numbers: ER15-43-000.

Applicants: Midcontinent Independent System Operator.

Description: § 205(d) rate filing per 35.13(a)(2)(iii): 2014-10-06_ SA 2699 NSP-MMU T-T to be effective 1/1/2015 under ER15-43 Filing Type: 10.

Filed Date: 10/6/14.

Accession Number: 20141006-5067.

Comments Due: 5 p.m. ET 10/27/14.

Docket Numbers: ER15-44-000.

Applicants: Southern California Edison Company.

Description: Tariff Withdrawal per 35.15: Notices of Cancellation of SGIA and Distribution Serv Agmt with Apex to be effective 12/6/2014.

Filed Date: 10/6/14.

Accession Number: 20141006-5074.

Comments Due: 5 p.m. ET 10/27/14.

Docket Numbers: ER15-45-000.

Applicants: Southwest Power Pool, Inc.

Description: § 205(d) rate filing per 35.13(a)(2)(iii): Attachment AE Revisions—MWP Start-Up Offer Recovery Eligibility Clarifications to be effective 12/5/2014.

Filed Date: 10/6/14.

Accession Number: 20141006-5078.

Comments Due: 5 p.m. ET 10/27/14.

Docket Numbers: ER15-46-000.

Applicants: Dragon Energy, LLC.

Description: Tariff Withdrawal per 35.15: Cancellation of Entire MBR Tariff to be effective 10/6/2014.

Filed Date: 10/6/14.

Accession Number: 20141006-5082.

Comments Due: 5 p.m. ET 10/27/14.

Docket Numbers: ER15-47-000.

Applicants: Southwest Power Pool, Inc.

Description: § 205(d) rate filing per 35.13(a)(2)(iii): Revisions to Specify the Minimum Operating Limits of Non-Dispatachable VERs to be effective 12/5/2014.

Filed Date: 10/6/14.

Accession Number: 20141006-5086.

Comments Due: 5 p.m. ET 10/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2014.
Nathaniel J. Davis, Sr.,
Deputy Secretary.

[FR Doc. 2014-24371 Filed 10-14-14; 8:45 am]

BILLING CODE 6717-01-P